ENVIRONMENTAL PROTECTION AGENCY

[EPA-HQ-OPP-2017-0756; FRL-9977-20]

Pesticide Experimental Use Permit; Receipt of Application; Reopening of Comment Period

AGENCY: Environmental Protection Agency (EPA).

ACTION: Notice; reopening of comment period.

SUMMARY: EPA issued a notice in the Federal Register of March 9, 2018, concerning receipt of an application, 93167-EUP-R, from Oxitec Ltd. requesting an experimental use permit for the OX513A Aedes aegypti mosquitoes expressing tetracycline Trans-Activator Variant protein. This document reopens the comment period for 30 days. The comment period is being reopened because a large interest from the public, including several requests to extend the comment period to provide enough time for stakeholders to provide additional comments.

DATES: Comments, identified by docket identification (ID) number EPA-HQ-OPP-2017-0756, must be received on or before June 7, 2018.

ADDRESSES: Follow the detailed instructions provided under ADDRESSES in the Federal Register document of March 9, 2018 (83 FR 10475) (FRL-9972-86).

FOR FURTHER INFORMATION CONTACT: Robert McNally, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION: This document reopens the public comment period established in the Federal Register document of March 9, 2018 (83 FR 10475) (FRL-9972-86). EPA is hereby reopening the comment period for 30 days.

To submit comments, or access the docket, please follow the detailed instructions provided under ADDRESSES in the Federal Register document of March 9, 2018 (83 FR 10475) (FRL-9972-86). If you have questions, consult the person listed under FOR FURTHER INFORMATION CONTACT.

Authority: 7 U.S.C. 136 et seq.

Dated: April 30, 2018.
Robert McNally,
Director, Biopesticides and Pollution Prevention Division, Office of Pesticide Programs.

[FR Doc. 2018-09777 Filed 5-7-18; 8:45 am]

BILLING CODE 6560-50-P